DEPARTMENT OF JUSTICE

Parole Commission

Sunshine Act Meeting

TIME AND DATE: 11:00 a.m., October 26, 2016.

PLACE: U.S. Parole Commission, 90 K Street NE., 3rd Floor, Washington, DC.

STATUS: Open.

MATTERS TO BE CONSIDERED: Approval of July 27, 2016 minutes.

CONTACT PERSON FOR MORE INFORMATION: Jacqueline Graham, Staff Assistant to the Chairman, U.S. Parole Commission, 90 K Street NE., 3rd Floor, Washington, DC 20530, (202) 346-7010.

Dated: October 18, 2016.
J. Patricia W. Smoot,
Chairman, U.S. Parole Commission.

[FR Doc. 2016-25583 Filed 10-19-16; 11:15 am]

BILLING CODE 4410-31-P